DEPARTMENT OF ENERGY

Federal Energy Regulatory Commission

[Docket No. CP12-22-000]

Dominion Transmission, Inc; Notice of Request Under Blanket Authorization

Take notice that on December 5, 2011, Dominion Transmission, Inc (DTI), 701 East Cary Street, Richmond, VA 23219, filed in Docket No. CP12-22-000, a prior notice request under its blanket certificate issued in Docket No. CP82-537-000 pursuant to sections 157.205, 157.208 and 157.210 of the Commission's regulations under the Natural Gas Act (NGA) to replace certain pipeline facilities located in Gilmer County, West Virginia, all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Specifically, DTI proposes to: (1) Replace approximately 14.98 miles of it's existing multi-diameter (12, 14, and 16-inch) TL-264 pipeline in Calhoun and Gilmer Counties, West Virginia with 16-inch diameter pipe; (2) construct approximately 735 feet of 8-inch diameter TL-369 Ext. 2 receiver pipeline facilities; and (3) construct two new pipeline launcher/receivers and one new pipeline receiver as necessary to perform pigging operations on the pipeline. DTI estimates the total cost of the subject facilities is $16.2 million.

Any questions regarding this Prior Notice should be directed to Brad Knisley, Regulatory and Certificates Analyst III, Dominion Transmission, Inc., 701 East Cary Street, Richmond, VA 23219, telephone no. (804) 771-4416, facsimile no. (804) 771-4804 and Email: Brad.A.Knisley@dom.com.

Any person may, within 60 days after the issuance of the instant notice by the Commission, file pursuant to Rule 214 of the Commission's Procedural Rules (18 CFR 385.214) a motion to intervene or notice of intervention. Any person filing to intervene or the Commission's staff may, pursuant to section 157.205 of the Commission's regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a) (1) (iii) and the instructions on the Commission's Web site (www.ferc.gov) under the “e-Filing” link.

Dated: December 19, 2011.
Kimberly D. Bose,
Secretary.

[FR Doc. 2011-32990 Filed 12-23-11; 8:45 am]

BILLING CODE 6717-01-P